DEPARTMENT OF THE INTERIOR

National Park Service

36 CFR Chapter 1

Negotiated Rulemaking Advisory Committee for Dog Management at Golden Gate National Recreation Area

ACTION: Notice of meeting.

Notice is hereby given, in accordance with the Federal Advisory Committee Act (Pub. L. 92-463, 86 Stat. 770, 5 U.S.C. App 1, section 10), of the second meeting of the Negotiated Rulemaking Advisory Committee for Dog Management at Golden Gate National Recreation Area.

DATES: The Committee will meet on April 18, 2006 at the Fort Mason Officer's Club in upper Fort Mason, in San Francisco. The meeting will begin at 3 p.m. This, and any subsequent meetings, will be held to assist the National Park Service in potentially developing a special regulation for dogwalking at Golden Gate National Recreation Area.

The proposed agenda for this meeting of the Committee may contain the following items; however, the Committee may modify its agenda during the course of its work. The Committee will provide for a public comment period during the meeting.

1. Agenda review and adoption.

2. Approve previous meeting summary.

3. Committee Protocols.

4. GGNRA Sideboards.

5. Interest statements from Committee representatives.

6. Negotiated rulemaking process and coordination with NEPA.

7. Goals and criteria.

8. Information needs.

9. Committee schedule and logistics.

10. Public comment.

11. Adjourn.

To request a sign language interpreter for a meeting, please call the park TDD line (415) 556-2766, a week in advance of the meeting.

FOR FURTHER INFORMATION CONTACT: Superintendent, Golden Gate National Recreation Area, Fort Mason, Building 201, San Francisco, CA 94123 or call the Dog Management Information Line at 415-561-4728.

SUPPLEMENTARY INFORMATION: The meetings are open to the public. The Committee was established pursuant to the Negotiated Rulemaking Act of 1990 (5 U.S.C. 561-570). The purpose of the Committee is to consider developing a special regulation for dogwalking at Golden Gate National Recreation Area. Interested persons may provide brief oral/written comments to the Committee during the Public Comment period of the meeting or file written comments with the GGNRA Superintendent.

Dated: March 28, 2006.
Bernard C. Fagan,
Deputy Chief, Office of Policy.

[FR Doc. 06-3182 Filed 3-31-06; 8:45 am]

BILLING CODE 4312-FN-P